DEPARTMENT OF THE INTERIOR

Bureau of Indian Affairs

[DR.5B711.IA000814]

Land Acquisitions; Kaw Nation of Oklahoma

AGENCY: Bureau of Indian Affairs, Interior.

ACTION: Notice of Final Agency Determination.

SUMMARY: The Assistant Secretary—Indian Affairs made a final agency determination to acquire 21.54 acres more or less of land in trust for the Kaw Nation of Oklahoma for gaming and other purposes on March 10, 2014.

FOR FURTHER INFORMATION CONTACT: Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register. On March 10, 2014, the Assistant Secretary—Indian Affairs issued a decision to accept 21.54 acres more or less of land into trust for the Kaw Nation of Oklahoma under the authority of the Indian Reorganization Act of 1934, 25 U.S.C. 465, described as: A tract of land located in the Northeast Quarter and Northwest Quarter of Section 6, Township 28 North, Range 1 West of the Indian Meridian, Kay County, State of Oklahoma more particularly described as follows:

Beginning at the Southeast corner of said Northwest Quarter of Section 6; thence West (on an assumed bearing) along the South line of said Northwest Quarter a distance of 430.4 feet to a point on the East right-of-way line of U.S. Interstate 35 (I-35); thence North 8°54′ East along the East right-of-way line of I-35 a distance of 284.3 feet to a point; thence North 2°25′ West along said East right-of-way line of I-35 a distance of 102 feet; thence North 8°54′ East along said East right-of-way line of I-35 a distance of 745 feet; thence Northeasterly along a curve to the right, along the East right-of-way line of I-35, having a radius of 2185.8 feet (said curve subtended by a chord which bears N19°14′E a distance of 835.82 feet) and an arc length of 841 feet to a point on the East line of said Northwest Quarter; thence continuing Northeasterly along a curve to the right, along the East right-of-way line of I-35, having a radius of 2185.8 feet (said curve subtended by a cord which bears N31°32′E a distance of 94.39 feet) and an arc length of 94.4 feet; thence North 33°26′ East along said East right-of-way line of I-35 a distance of 212.7 feet; thence North 63°26′ East along said East right-of-way line of I-35 a distance of 295.7 feet; thence Southeasterly on a curve to the right, along the South right-of-way line of U.S Highway 177, having radius of 1809.9 feet (said curve subtended by a chord which bears S63°50′E a distance of 461.65 feet) and an arc length of 462.91 feet; thence S68°06′E along the South right-of-way line of U.S. Highway 177 a distance of 114.49 feet; thence S09°15′W a distance of 381.45 feet; thence N82°37′W a distance of 897.68 feet to a point on the East line of said Northwest Quarter; thence S00°00′E along the East line of said Northwest Quarter a distance of 1790.80 feet to the Point of Beginning. Said tract containing 21.54 acres more or less. Subject to all Easements and Rights of Way of Record.

Dated: March 10, 2014.
Kevin K. Washburn,
Assistant Secretary—Indian Affairs.

[FR Doc. 2014-05682 Filed 3-13-14; 8:45 am]

BILLING CODE 4310-4N-P